DEPARTMENT OF ENERGY

Federal Energy Regulatory Commission

[Docket Nos. CP15-554-000; CP15-554-001]

Atlantic Coast Pipeline, LLC; Supplemental Notice of Intent To Prepare an Environmental Impact Statement and Proposed Land and Resource Plan Amendment(s) for the Proposed Atlantic Coast Pipeline, Request for Comments on Environmental Issues Related to New Route and Facility Modifications, and Notice of Public Scoping Meetings

On February 27, 2015, the Federal Energy Regulatory Commission (FERC or Commission) issued in Docket Nos. PF15-5-000 and PF15-6-000 a Notice of Intent to Prepare an Environmental Impact Statement for the Planned Supply Header Project and Atlantic Coast Pipeline Project, and Request for Comments on Environmental Issues, and Notice of Public Scoping Meetings (NOI). On September 18, 2015, Atlantic Coast Pipeline, LLC (Atlantic) and Dominion Transmission, Inc. (DTI) filed applications with the FERC in Docket Nos. CP15-554-000 and CP15-555-000 pursuant to sections 7(b) and 7(c) of the Natural Gas Act (NGA) and Parts 157 and 284 of the Commission's regulations. Atlantic and DTI are seeking Certificates of Public Convenience and Necessity (Certificates) to construct, own, and operate a natural gas pipeline and related facilities. On March 1, 2016, Atlantic filed an amendment to its application to incorporate route and facility modifications in West Virginia, Virginia, and North Carolina. This Supplemental Notice is being issued to seek comments on the new pipeline route and facility modifications and opens a new scoping period for interested parties to file comments on environmental issues specific to these modifications.

Information about the facilities proposed by Atlantic and DTI can be found on our public dockets referenced above and on each applicant's Web site at www.dom.com/corporate/what-we-do/atlantic-coast-pipeline or www.dom.com/corporate/what-we-do/natural-gas/supply-header-project. The FERC's environmental impact statement (EIS) will encompass all proposed facilities and be used by the Commission in its decision-making process to determine whether the Atlantic Coast Pipeline (ACP) and Supply Header Project are in the public convenience and necessity.

The FERC will be the lead federal agency for the preparation of the EIS. The U.S. Forest Service (USFS) is participating as a cooperating agency because the ACP would cross the Monongahela National Forest (MNF) and the George Washington National Forest (GWNF) in West Virginia and Virginia. As a cooperating agency, the USFS intends to adopt the EIS per Title 40 of the Code of Federal Regulations, Part 1506.3 to meet its responsibilities under the National Environmental Policy Act (NEPA) regarding Atlantic's application for a Right-of-Way Grant and Temporary Use Permit for crossing federally administered lands. In addition, there may be a need for the USFS to amend the MNF and GWNF Land and Resource Management Plans (LRMP) to allow for the ACP to be constructed on USFS lands. The EIS will also provide the documentation to support needed amendments to the LRMPs. Additional details on the USFS' LRMP Amendment Process is provided on page 8.

The Commission previously solicited public input on the ACP in the spring of 2015. We ¹ are specifically seeking comments on the new pipeline route and facility modifications to help the Commission staff determine what issues need to be evaluated in the EIS. Your comments should focus on the potential environmental effects, reasonable alternatives, and measures to avoid or lessen environmental impacts from the new route and proposed modifications. To ensure that your comments are timely and properly recorded, please send your comments so that the Commission receives them in Washington, DC on or before June 2, 2016. If you have previously provided comments on the ACP or Supply Header Projects, you do not need to resubmit them.

¹ “We,” “us,” and “our” refer to the environmental staff of the Commission's Office of Energy Projects.

You may submit comments in written form or verbally. In lieu of or in addition to sending written comments, the Commission invites you to attend the public scoping meetings scheduled as follows:

Date and time | Location
Friday, May 20, 2016, 10:00 a.m.-7:00 p.m | Marlinton Community Wellness Center, 320 9th Street, Marlinton, WV 24954.
Saturday, May 21, 2016, 10:00 a.m.-7:00 p.m | Bath County High School, 464 Charger Lane, Hot Springs, VA 24445.

The purpose of these scoping meetings is to provide an opportunity to verbally comment on the project modifications. You may attend at any time during the meeting, as the primary goal of a scoping meeting is for us to hear and document your environmental concerns. There will not be a formal presentation by Commission staff; however, we will be available to answer your questions about the FERC environmental review process. Representatives of Atlantic will also be present to answer questions about the project.

Verbal comments will be recorded by a court reporter and transcripts will be placed into the docket for the project and made available for public viewing on FERC's eLibrary system (see page 12 “Additional Information” for instructions on using eLibrary). It is important to note that verbal comments hold the same weight as written or electronically submitted comments. If a significant number of people are interested in providing verbal comments, a time limit of 3 to 5 minutes may be implemented for each commenter to ensure all those wishing to comment have the opportunity to do so within the designated meeting time. Time limits will be strictly enforced if they are implemented.

This Supplemental Notice is being sent to the Commission's current environmental mailing list for this project, including those landowners that are newly affected by the proposed pipeline route modifications. State and local government representatives are asked to notify their constituents of this proposed project and encourage them to comment on their areas of concern.

If you are a newly affected landowner receiving this notice, a pipeline company representative may contact you about the acquisition of an easement to construct, operate, and maintain the proposed facilities. The company would seek to negotiate a mutually acceptable agreement. However, if the Commission approves the project, that approval conveys with it the right of eminent domain. Therefore, if the easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically asked questions, including the use of eminent domain and how to participate in the Commission's proceedings.

Summary of Project Modifications

In its amended application, Atlantic proposes a major route change through the MNF and GWNF that would affect landowners in Randolph and Pocahontas Counties, West Virginia and Highland, Bath, and Augusta Counties, Virginia. Other, smaller route changes proposed in the amendment would affect landowners in Nelson and Dinwiddie Counties, Virginia; and Cumberland and Johnston Counties, North Carolina. The amended facilities would increase the total length of the pipeline from about 556 miles to 599.7 miles and compressor station horsepower from 40,715 horsepower to 53,515 horsepower at the proposed Buckingham County, Virginia compressor station, all as more fully described in the amended application. An overview map of the proposed ACP and SHP and illustrations of these alternatives are provided in Appendix 1. Detailed alternative route location information can be found on DTI's interactive web mapping application at https://www.dom.com/corporate/what-we-do/atlantic-coast-pipeline.

GWNF 6 Route Modification (Randolph and Pocahontas Counties, West Virginia; Highland, Bath, and Augusta Counties, Virginia)

To reduce potential impacts on the Cheat Mountain salamander, West Virginia Northern flying squirrel, and Cow Knob salamander, and to avoid sensitive habitats and land uses, Atlantic incorporated the GWNF 6 Alternative into its proposed pipeline route between AP-1 mileposts (MPs) 47.5 and 115.2. Relative to Atlantic's originally proposed route, the GWNF 6 Route Modification initially heads south approximately 13 miles, passing east of Hicks Ridge and west of Kumbrabow State Forest. The route continues south/southeast approximately 13 miles, crossing Point Mountain and passing east of Elk Mountain and Mingo Knob. The route enters Pocahontas County, West Virginia southeast of Mingo Knob at Valley Mountain, and continues south approximately 8 miles, crossing Mace, Tallow, and Gibson Knobs, passing west of the Snowshoe Ski Resort. South of Gibson Knob, the route heads southeast approximately 17 miles, passing south of Cheat Mountain and Back Allegheny Mountain; crossing Cloverlick Mountain, Seneca State Forest, and Michael Mountain; and entering Highland County, Virginia just west of Big Crooked Ridge.

After entering Virginia, the GWNF 6 Alternative continues east approximately 3 miles then southeast approximately 8 miles, crossing Little Ridge, Big Ridge, and Little Mountain and passing east of Piney Ridge. The route enters Bath County, Virginia near U.S. Highway 220, and continues southeast approximately 14 miles, crossing Back Creek Mountain, Jack Mountain, and Tower Hill Mountain and passing south of Shenandoah Mountain at South Sister Knob. The route heads northeast approximately 20 miles, passing north of Chestnut Ridge; entering Augusta County, Virginia near Brushy Ridge; and crossing Deerfield Valley on the east side of Shenandoah Mountain. The GWNF 6 Alternative intersects Atlantic's filed route near MP 115.2 at Broad Draft near West Augusta, Virginia.

In addition to the route modification described above, Atlantic also proposes to increase the horsepower of its proposed Compressor Station 2 in Buckingham County, Virginia and install eight additional valve sites.

Snowshoe Route Adjustment (Randolph and Pocahontas Counties, Virginia)

Atlantic incorporated the Snowshoe Route Variation into its proposed route between AP-1 MPs 66.7 and 70.1 to avoid modeled habitat for the Cheat Mountain salamander and the Cheat Mountain Civil War Battlefield, as well as reducing the amount of forest land and other sensitive environmental features crossed. Relative to Atlantic's originally proposed route, the Snowshoe Route Variation initially heads west/southwest for 0.8 mile, crossing the main ridge on Valley Mountain, then continuing for approximately 2.6 miles, descending Valley Mountain, crossing Dry Fork Spring and Middle Mountain, and entering the valley along Big Fork Spring. The route then crosses Highway 56 in the valley, and continues to the south/southwest for approximately 1.3 miles, ascending Tallow Knob and reconnecting to the originally proposed route at MP 70.1.

Singleton Route Adjustment (Bath County, Virginia)

Atlantic incorporated the Singleton Route Adjustment into its proposed route between AP-1 MPs 91.9 and 92.7 to avoid an open-space conservation easement held by the Virginia Outdoors Foundation. Relative to Atlantic's originally proposed route, the Singleton Route Adjustment is generally parallel to and within 0.3 mile of the corresponding segment of the originally proposed route.

Horizons Village 2 Route Adjustment (Nelson County, Virginia)

In response to our environmental information request dated December 4, 2015, and to avoid crossing the Spruce Creek Tributary Conservation Site, Atlantic incorporated the Horizons Village 2 Route Adjustment into its proposed pipeline route between AP-1 MPs 162.0 and 162.8. Relative to Atlantic's originally proposed route, the Horizons Village 2 Route Adjustment would pass approximately 310 feet south of the conservation site.

Highway 29 Route Adjustment (Nelson County, Virginia)

In response to our environmental information request dated December 4, 2015, and to avoid an area of high slip potential, improve the location for the crossing of Highway 29, and optimize the amount of agricultural and open land crossed, Atlantic incorporated the Highway 29 Route Variation into its proposed pipeline route between AP-1 MPs 167.0 and 171.1. Relative to Atlantic's originally proposed route, the Highway 29 Route Variation initially heads south for approximately 0.2 mile following a ridge to the top of Roberts Mountain, then continues southeast for approximately 1.7 miles following a ridge to the base of Roberts Mountain at the crossing of Davis Creek. This segment of the route crosses Highway 29 on the same north trending finger ridge as the proposed route, but in an area with flatter terrain at the crossing. On the south side of the highway, the route continues to the southeast for approximately 2.2 miles, including a 0.2-mile-long segment parallel to Starvale Lane. The Highway 29 Route Variation reconnects to the originally proposed route on the east side of Wheelers Cove Road at approximately MP 171.1.

Beaver Pond Creek Route Adjustment (Dinwiddie County, Virginia)

In response to our environmental information request dated December 4, 2015, and to reduce the number of crossings of Beaver Pond Creek and address comments provided by the Ward Burton Wildlife Foundation, Atlantic incorporated the Beaver Pond Creek Route Variation into its proposed pipeline route between AP-1 MPs 256.5 and 259.3. Relative to Atlantic's originally proposed route, the Beaver Pond Creek Route Variation initially heads south/southwest for approximately 111.1 miles to a point just south of Whitmore Road, then heads south for approximately 1.6 miles over mostly upland terrain, crossing Beaver Creek Pond in one location, reconnecting with the originally proposed route near MP 259.3.

Juniper Farms Route Adjustment (Johnston County, North Carolina)

Atlantic incorporated the Juniper Farms Route Variation into its proposed route between AP-2 MPs 96.9 and 98.4 to avoid a wetland mitigation bank, and to reduce the amount of sensitive environmental features and constraints crossed. Relative to Atlantic's originally proposed route, the Juniper Farms Route Variation initially heads southwest for approximately 1.2 miles, passing east of the eastern boundary of the mitigation bank. The route variation then reconnects with the originally proposed route at MP 98.4 on the north side of the Neuse River crossing.

Fayetteville Major Route Modification (Cumberland County, North Carolina)

In response to our environmental information request dated December 4, 2015, and to increase collocation with an existing Progress Energy Carolinas (PEC) 500 kilovolt electric transmission line, and reduce the number of affected property owners, the number of waterbody crossings, and temporary wetland impacts, Atlantic incorporated the Fayetteville Major Route Alternative into its proposed pipeline route between AP-2 MPs 133.1 and 157.5. Relative to Atlantic's originally proposed route, the Fayetteville Major Route Alternative initially heads south/southeast for approximately 3.9 miles to the point where it intersects the existing PEC electric transmission line, crossing Drum Road, Interstate 95, and Goldsboro Road. The route then heads south for approximately 16.7 miles, parallel to and adjacent to the electric transmission line corridor, and crosses Clinton Road and Cedar Creek Road. The route continues west for approximately 5.5 miles, crossing Tabor Church Road, Cape Fear River, and North Carolina State Highway 87 reconnecting with the originally proposed route near MP 157.5.

The EIS Process

NEPA requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues to address in the EIS. We will consider all filed comments during the preparation of the EIS.

In the EIS we will discuss impacts that could occur as a result of the construction and operation of the proposed projects under these general headings:

☐ Geology and soils;

☐ land use;

☐ water resources, fisheries, and wetlands;

☐ cultural resources;

☐ vegetation and wildlife;

☐ air quality and noise;

☐ endangered and threatened species;

☐ outdoor recreation and scenery

☐ socioeconomics; and

☐ public safety.

We will also evaluate reasonable alternatives to the proposed project or portions of the project, and make recommendations on how to lessen or avoid impacts on the various resource areas.

The EIS will present our independent analysis of the issues. We will publish and distribute the draft EIS for public comment. After the comment period, we will consider all timely comments and revise the document, as necessary, before issuing a final EIS. To ensure we have the opportunity to consider and address your comments, please carefully follow the instructions in the Public Participation section beginning on page 9.

The U.S. Army Corps of Engineers (USACE) and USFS also have responsibilities under NEPA and can adopt the EIS for their own agencies purposes. The USFS intends to use this EIS to evaluate the effects of the ACP on lands and facilities managed by the agency and to address any proposed amendments of applicable LRMPs that would be necessary to make provisions for the projects.

With this Supplemental Notice, we are asking agencies with jurisdiction by law and/or special expertise with respect to the environmental issues related to these projects to formally cooperate with us in the preparation of the EIS.² Agencies that would like to request cooperating agency status should follow the instructions for filing comments provided under the Public Participation section of this notice. As discussed above, the USFS has expressed its intention to participate as a cooperating agency in the preparation of the EIS to satisfy its NEPA responsibilities related to these projects. In addition to the USFS, the USACE, U.S. Environmental Protection Agency, U.S. Fish and Wildlife Service Great Dismal Swamp National Wildlife Refuge, West Virginia Department of Environmental Protection, and West Virginia Division of Natural Resources have also agreed to participate as cooperating agencies.

² The Council on Environmental Quality regulations addressing cooperating agency responsibilities are at Title 40, Code of Federal Regulations, Part 1501.6.

Proposed Actions of the U.S. Forest Service

On November 12, 2015 Atlantic submitted a right-of-way grant application to the USFS to construct, operate, maintain, and eventually decommission a natural gas pipeline that crosses lands and facilities administered by the USFS. In addition, there is a need for the USFS to consider amending affected LRMPs to make provision for the ACP right-of-way.

The proposed action before the USFS has two components. First, in accordance with the Minerals Leasing Act, the USFS would issue a right-of-way grant in response to ACP's application for the project to occupy federal lands. The USFS may submit specific stipulations, including mitigation measures, for inclusion in the right-of-way grant related to lands, facilities, and easements within its jurisdiction. Second, the USFS may need to amend its LRMPs for the Monongahela and George Washington National Forests if analysis shows that construction of the ACP would not be consistent with the LRMP standards or other plan components. In addition, the ACP, as proposed, does not follow a designated utility corridor through the GWNF. If the proposed route were authorized with the right-of-way grant, the GWNF LRMP would need to be amended to change the current Management Areas in the corridor to Management Area 5C-Designated Utility Corridors. The MNF does not have LRMP direction that would require a similar plan amendment to reallocate management prescriptions.

The USFS Regional Foresters of the respective national forests have authority to grant a right-of-way in response to Atlantic's application for natural gas transmission on federal lands under the Mineral Leasing Act of 1920. The Responsible Official for amendment of Forest Service LRMPs is the Forest Supervisor of the applicable national forest. However, the Regional Forester of the applicable national forest may elect to be the Responsible Official for the plan amendments as well, since the Regional Forester will be the Responsible Official for the right-of-way grant.

This NOI initiates the scoping process for the potential LRMP amendments and for the issuance of the right-of-way grant. The decisions will be tiered to the analysis contained in the FERC EIS for the ACP. The Notice of Availability for the FERC draft EIS will contain more detailed information associated with the LRMP amendments.

Consultations Under Section 106 of the National Historic Preservation Act

In accordance with the Advisory Council on Historic Preservation's implementing regulations for Section 106 of the National Historic Preservation Act, we are using this notice to initiate consultation with the applicable State Historic Preservation Offices, and to solicit their views and those of other government agencies, interested Indian tribes, and the public on the projects' potential effects on historic properties.³ We will define the project-specific Area of Potential Effects (APE) in consultation with the SHPOs as the projects develop. On natural gas facility projects, the APE at a minimum encompasses all areas subject to ground disturbance (examples include construction right-of-way, contractor/pipe storage yards, compressor stations, and access roads). Our EIS for these projects will document our findings on the impacts on historic properties and summarize the status of consultations under Section 106.

³ The Advisory Council on Historic Preservation regulations are at Title 36, Code of Federal Regulations, part 800. Those regulations define historic properties as any prehistoric or historic district, site, building, structure, or object included in or eligible for inclusion in the National Register of Historic Places.

Public Participation

You can make a difference by providing us with your specific comments or concerns about the ACP and proposed USFS LRMP amendments. Your comments should focus on the potential environmental effects, reasonable alternatives, and measures to avoid or lessen environmental impacts. The more specific your comments, the more useful they will be. To ensure that your comments are timely and properly recorded, please send your comments so that the Commission receives them in Washington DC on or before June 2, 2016. If you have previously provided comments on the ACP or Supply Header Projects, you do not need to resubmit them.

The USFS is participating as a cooperating agency with the FERC in this public scoping process. With this notice, the USFS is requesting public comments on the issuance of the ROW Grant that would allow the ACP to occupy federal land. The USFS is also requesting public comments on the potential amendments of USFS LRMPs to make provision for the ACP right-of-way on the Monongahela and George Washington National Forests.

Comments on actions by the USFS should be submitted through the FERC comment process and within the timeline described. The submission of timely and specific comments can affect a reviewer's ability to participate in subsequent administrative or judicial review of USFS decisions. Comments concerning USFS actions submitted anonymously will be accepted and considered; however, such anonymous submittals will not provide the commenters with standing to participate in administrative or judicial review of USFS decisions.

For your convenience, there are three methods you can use to submit your comments to the Commission. In all instances, please reference the appropriate project docket number (CP15-554-000 for the ACP) with your submission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, as well as anyone who submits comments on the projects. We will update the environmental mailing list as the analysis proceeds to ensure that we send the information related to this environmental review to all individuals, organizations, and government entities interested in and/or potentially affected by the planned projects.

Copies of the completed draft EIS will be sent to the environmental mailing list for public review and comment. If you would prefer to receive a paper copy of the document instead of the CD version or would like to remove your name from the mailing list, please return the attached Information Request (appendix 2).

Becoming an Intervenor

In addition to involvement in the EIS scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Administrative Review of USFS Decisions

Decisions by the USFS to issue ROW Grants and amend LRMPs are subject to administrative review. Pre-decisional objections to the ROW Grant decisions and project-specific MNF and GWNF LRMP amendments that are applicable only to the ACP, as provided under Title 36 of the Code of Federal Regulations Part 219.59(b) (36 CFR 219.59[b]), may be filed under the 36 CFR 218 regulations, Subparts A and B. For objection eligibility (218.5), only those who have submitted timely, specific written comments during any designated opportunity for public comment may file an objection. Issues to be raised in objections must be based on previously submitted specific written comments regarding the proposed project and attributed to the objector, unless the issue is based on new information that arose after a designated opportunity for comment (218.8(c)). The GWNF plan amendment for the reallocation of management areas to Management Area 5C-Designated Utility Corridors would be subject to the pre-decisional objection process under the regulations at 36 CFR 219, Subpart B. For objection eligibility (219.53), only those who have submitted substantive formal comments related to a plan amendment during the opportunities for public comment during the planning process for that decision may file an objection. Objections must be based on previously submitted substantive formal comments attributed to the objector unless the objection concerns an issue that arose after the opportunities for formal comment.

Additional Information

Additional information about the ACP is available from the Commission's Office of External Affairs, at (866) 208-FERC or on the FERC Web site (www.ferc.gov) using the eLibrary link. Click on the eLibrary link, click on “General Search,” and enter the docket number, excluding the last three digits (i.e., CP15-554). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: May 3, 2016.
Kimberly D. Bose,
Secretary.

[FR Doc. 2016-10784 Filed 5-6-16; 8:45 am]

BILLING CODE 6717-01-P